NUCLEAR REGULATORY COMMISSION

[Docket No. 030-03787]

Notice of Availability of Environmental Assessment and Finding of No Significant Impact for License Amendment for the Connecticut Agricultural Experiment Station for Its Johnson Laboratory Facility, New Haven, Connecticut

AGENCY: Nuclear Regulatory Commission.

ACTION: Notice of Availability of Environmental Assessment and Finding of No Significant Impact.

FOR FURTHER INFORMATION CONTACT: Judy Joustra, Nuclear Materials Safety Branch 2, Division of Nuclear Materials Safety, Region I, 475 Allendale Road, King of Prussia, Pennsylvania, 19406, (610) 337-5355; fax (610) 337-5269; e-mail: JAJ@nrc.gov.

SUPPLEMENTARY INFORMATION:

I. Introduction

The Nuclear Regulatory Commission (NRC) is considering the issuance of a license amendment to The Connecticut Agricultural Experiment Station (Experiment Station) for Materials License No. 06-03754-01, to authorize release of the Johnson Laboratory in New Haven, Connecticut for unrestricted use. NRC has prepared an Environmental Assessment (EA) in support of this action in accordance with the requirements of 10 CFR Part 51. Based on the EA, the NRC has concluded that a Finding of No Significant Impact (FONSI) is appropriate. The amendment will be issued following publication of this Notice.

II. EA Summary

The purpose of the proposed action is to authorize the release of the licensee's Johnson Laboratory, New Haven, Connecticut facility for unrestricted use. The Experiment Station has been authorized by NRC since July 9, 1958 to use radioactive materials for research and development purposes at the Johnson Laboratory. On September 4, 2003, the Experiment Station requested that NRC release the facility for unrestricted use. The Experiment Station has conducted surveys of the facility as required by 10 CFR Part 20 and performed an assessment of residual contamination, and has determined that the facility meets the license termination criteria in Subpart E of 10 CFR Part 20. The NRC staff has prepared an EA in support of the proposed license amendment.

III. Finding of No Significant Impact

The staff has prepared the EA (summarized above) in support of the proposed license amendment to release the facility for unrestricted use. The NRC staff has evaluated the Experiment Station's request, and the results of the surveys and the assessment, and has concluded that the completed action complies with Subpart E of 10 CFR Part 20. The staff has found that the environmental impacts from the proposed action are bounded by the impacts evaluated by the “Generic Environmental Impact Statement in Support of Rulemaking on Radiological Criteria for License Termination of NRC-Licensed Facilities” (NUREG-1496). On the basis of the EA, the NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML040840072, ML032541028, ML032790538, ML033630602 and ML040830619). These documents are also available for inspection and copying for a fee at the Region I Office, 475 Allendale Road, King of Prussia, PA 19406. Persons who do not have access to ADAMS, should contact the NRC PDR Reference staff by telephone at (800) 397-4209 or (301) 415-4737, or by e-mail to pdr@nrc.gov.

Dated at King of Prussia, Pennsylvania this 24th day of March, 2004.
For the Nuclear Regulatory Commission.
John D. Kinneman,
Chief, Nuclear Materials Safety Branch 2, Division of Nuclear Materials Safety, Region I.

[FR Doc. 04-7315 Filed 3-31-04; 8:45 am]

BILLING CODE 7590-01-P